DEPARTMENT OF DEFENSE

Office of the Secretary

[Transmittal No. 18-0A]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(5)(C) arms sales notification is published to fulfill the requirements of section 155 of Public Law 104-164 dated July 21, 1996. The following is a copy of a letter to the Speaker of the House of Representatives, Transmittal 18-0A.

Dated: July 26, 2018.
Shelly E. Finke,
Alternate OSD Federal Register Liaison Officer, Department of Defense.

BILLING CODE 5001-06-P

BILLING CODE 5001-06-C

Transmittal No. 18-0A

REPORT OF ENHANCEMENT OR UPGRADE OF SENSITIVITY OF TECHNOLOGY OR CAPABILITY (SEC. 36(B)(5)(C), AECA)

(i) Purchaser: Australia

(ii) Sec. 36(b)(1), AECA Transmittal No.: 11-05

Date: February 1, 2011

Military Department: Navy

(iii) Description: On February 1, 2011, Congress was notified by Congressional certification transmittal number 11-05 of the Government of Australia's request for ten year Through-Life-Support (TLS) for Australia's fleet of twenty-four (24) MH-60R helicopters. The sustainment effort includes spare and repair parts provisioning, support and test equipment, publications and technical documentation, U.S. Government and contractor engineering, technical and logistics support services, and other related elements of logistics support. The estimated cost was $1.6 billion, with no Major Defense Equipment (MDE).

This transmittal includes the extension of the sustainment support through June 2028 as requested by Australia and includes additional spare parts. There is no increase in MDE cost. The case value will increase from $1.6 billion to $2.8 billion.

(iv) Significance: The proposed sale will allow Australia to effectively maintain its current force projection capability that enhances interoperability with U.S. forces well into the future.

(v) Justification: This sale will contribute to the foreign policy and national security of the United States by helping to improve the security of an important major non-NATO ally and partner who contributes significantly to peacekeeping, humanitarian, and combat operations around the world.

(vi) Date Report Delivered to Congress: July 10, 2018.

[FR Doc. 2018-16307 Filed 7-30-18; 8:45 am]

BILLING CODE 5001-06-P